SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals by Rule Issued Under 18 CFR 806.22(f)

1. SWN Production Company, LLC.; Pad ID: Webster—1; ABR-20090401.R2; Franklin Township, Susquehanna County, Pa.; Consumptive Use of Up to 2.9999 mgd; Approval Date: April 11, 2019.

2. SWN Production Company, LLC.; Pad ID: Holbrook #1; ABR-20090402.R2; Liberty Township, Susquehanna County, Pa.; Consumptive Use of Up to 3.9990 mgd; Approval Date: April 11, 2019.

3. SWN Production Company, LLC.; Pad ID: Turner—1; ABR-20090403.R2; Middletown Township, Susquehanna County, Pa.; Consumptive Use of Up to 3.9990 mgd; Approval Date: April 11, 2019.

4. SWN Production Company, LLC; Pad ID: Fiondi—1; ABR-20090404.R2; Bridgewater Township, Susquehanna County, Pa.; Consumptive Use of Up to 3.0010 mgd; Approval Date: April 11, 2019.

Authority: Pub. L. 91-575, 84 Stat. 1509 et seq., 18 CFR parts 806 and 808.

Dated: June 10, 2019.
Jason E. Oyler,
General Counsel and Secretary to the Commission.

[FR Doc. 2019-12509 Filed 6-12-19; 8:45 am]

BILLING CODE 7040-01-P